DEPARTMENT OF THE TREASURY

Bureau of Alcohol, Tobacco and Firearms

Delegation Order—Delegation of the Director's Authorities in 27 CFR Parts 6, 8, 10 and 11

1. Purpose. This order delegates certain authorities of the Director to subordinate ATF officers and prescribes the subordinate ATF officers with whom persons file documents which are not ATF forms.

2. Background. Under current regulations, the Director has authority to take final action on matters relating to “tied-house,” exclusive outlets, commercial bribery and consignment sales under the Federal Alcohol Administration Act. We have determined that certain of these authorities should, in the interest of efficiency, be delegated to a lower organizational level.

3. Delegations. Under the authority vested in the Director, Bureau of Alcohol, Tobacco and Firearms, by Treasury Order No. 120-1 (formerly 221), dated June 6, 1972, and by 26 CFR 301.7701-9, this ATF order delegates certain authorities to take final action prescribed in 27 CFR Parts 6, 8, 10 and 11 to subordinate officials. Also, this ATF order prescribes the subordinate officials with whom applications, notices, and reports required by 27 CFR Parts 6, 8, 10 and 11, which are not ATF forms, are filed. The following table identifies the regulatory sections, authorities and documents to be filed, and the authorized ATF officials. The authorities in the table may not be redelegated. An ATF organization chart showing the directorates involved in this delegation order has been attached.

Bradley A. Buckles,
Director.

Table of Authorities and Officers Authorized to Act or Receive Documents
Regulatory section | Officer(s) authorized to act or receive document
§ 6.6(b) | Inspector or Special Agent to have access to, for the purpose of examination, and the right to copy any documentary evidence.
§ 6.6(b) | Director of Industry Operations or Chief, Alcohol and Tobacco Programs Division to require testimony and evidence by subpoena.
§ 6.6(c) | Deputy Assistant Director (Alcohol and Tobacco).
§ 8.6(b) | Inspector or Special Agent to have access to, for the purpose of examination, and the right to copy any documentary evidence.
§ 8.6(b) | Director of Industry Operations or Chief, Alcohol and Tobacco Programs Division to require testimony and evidence by subpoena.
§ 8.6(c) | Deputy Assistant Director (Alcohol and Tobacco).
§ 10.6(b) | Inspector or Special Agent to have access to, for the purpose of examination, and the right to copy any documentary evidence.
§ 10.6(b) | Director of Industry Operations or Chief, Alcohol and Tobacco Programs Division to require testimony and evidence by subpoena.
§ 10.6(c) | Director of Industry Operations or Chief, Alcohol and Tobacco Programs Division.
§ 11.6(b) | Inspector or Special Agent to have access to, for the purpose of examination, and the right to copy any documentary evidence.
§ 11.6(b) | Director of Industry Operations or Chief, Alcohol and Tobacco Programs Division to require testimony and evidence by subpoena.

BILLING CODE 4810-31-P

[FR Doc. 00-21902 Filed 8-25-00; 8:45 am]

BILLING CODE 4810-31-C